DEPARTMENT OF TRANSPORTATION

Surface Transportation Board

[STB Ex Parte No. 558 (Sub-No. 3)]

Railroad Cost of Capital—1999

AGENCY: Surface Transportation Board.

ACTION: Notice of decision.

SUMMARY: On June 12, 2000 the Board served a decision to update its computation of the railroad industry's cost of capital for 1999. The composite after-tax cost of capital rate for 1999 is found to be 10.8%, based on a current cost of debt of 7.2%; a cost of common equity capital of 12.9%; a cost of preferred equity capital of 6.3%; and a capital structure mix comprised of 35.5% debt, 62.7% common equity, and 1.8% preferred equity. The cost of capital finding made in this proceeding will be used in a variety of Board proceedings.

EFFECTIVE DATE: This action is effective June 12, 2000.

FOR FURTHER INFORMATION CONTACT: Leonard J. Blistein, (202) 565-1529. [TDD for the hearing impaired: (202) 565-1695.]

SUPPLEMENTARY INFORMATION: The cost of capital finding in this decision shall be used for a variety of regulatory purposes. To obtain a copy of the full decision, write to, call, or pick up in person from: Da-To-Da Office Solutions., Room 405, 1925 K Street, NW., Washington, DC 20423. Telephone: (202) 466-5530. [Assistance for the hearing impaired is available through TDD services (202) 565-1695.] The decision is also available on the Board's internet site at www.stb.dot.gov.

Environmental and Energy Considerations

This action will not significantly affect either the quality of the human environment or the conservation of energy resources.

Regulatory Flexibility Analysis

Pursuant to 5 U.S.C. 605(b), we conclude that our action in this proceeding will not have a significant economic impact on a substantial number of small entities. The purpose and effect of this action are to update the annual railroad industry cost of capital finding by the Board. No new reporting or other regulatory requirements are imposed, directly or indirectly, on small entities.

Authority: 49 U.S.C. 10704(a).

Decided: June 6, 2000.
By the Board, Chairman Morgan, Vice Chairman Burkes, and Commissioner Clyburn.
Vernon A. Williams,
Secretary.

[FR Doc. 00-14879 Filed 6-12-00; 8:45 am]

BILLING CODE 4915-00-P